DEPARTMENT OF AGRICULTURE

Forest Service

Shasta County Resource Advisory Committee (RAC)

AGENCY: USDA, Forest Service.

ACTION: Notice of Meeting.

SUMMARY: The Shasta County Resource Advisory Committee (RAC) will meet on December 3, 2003, in Redding, California. The purpose of the meeting will be to review pending projects to nominate for approval consideration.

DATES: The meeting will be held on December 3, 2003, from 8 a.m. to noon.

ADDRESSES: The meeting will be held at Northern California Service Center, 6101 Airport Road.

FOR FURTHER INFORMATION CONTACT: Kevin McIver, coordinator, USDA Forest Service, (530) 226-2500. E-mail: kmciver@fs.fed.us.

SUPPLEMENTARY INFORMATION: The meeting is open to the public. Discussion is limited to Forest Service staff and committee members. However, time may be provided for public input, giving individuals the opportunity to address the committee.

Dated: November 13, 2003.
Thomas Contreras,
Forest Supervisor.

[FR Doc. 03-28972 Filed 11-20-03; 8:45 am]

BILLING CODE 3410-11-M